DEPARTMENT OF ENERGY

Federal Energy Regulatory Commission

[Docket Nos. IS18-766-000; IS18-767-000]

Mid-America Pipeline Company, LLC; Seminole Pipeline Company LLC; Notice Rescheduling Technical Conference

The technical conference originally scheduled for January 17, 2019, in the above-referenced proceeding, is hereby rescheduled to convene on March 26, 2019, at 10:00 a.m. (Eastern Daylight Time). It will occur in Hearing Room 7 at the Commission's Washington, DC office.¹

¹ See the Notice of Technical Conference issued on December 12, 2018, for additional details regarding this conference.

Dated: February 21, 2019.
Kimberly D. Bose,
Secretary.

[FR Doc. 2019-03439 Filed 2-27-19; 8:45 am]

BILLING CODE 6717-01-P